DEPARTMENT OF ENERGY

Federal Energy Regulatory Commission

Combined Notice of Filings #1

Take notice that the Commission received the following electric rate filings:

Docket Numbers: ER20-2004-003.

Applicants: Public Service Electric and Gas Company, PJM Interconnection, L.L.C.

Description: Compliance filing: Public Service Electric and Gas Company submits tariff filing per 35: PSEG submits Revisions to PJM Tariff, Att. H-10 re: Order 864 to be effective 1/27/2020.

Filed Date: 2/17/23.

Accession Number: 20230217-5132.

Comment Date: 5 p.m. ET 3/10/23.

Docket Numbers: ER21-201-002.

Applicants: Atlantic City Electric Company, PJM Interconnection, L.L.C.

Description: Compliance filing: Atlantic City Electric Company submits tariff filing per 35: ACE Supplemental Compliance Filing in ER21-201 to be effective N/A.

Filed Date: 2/17/23.

Accession Number: 20230217-5017.

Comment Date: 5 p.m. ET 3/10/23.

Docket Numbers: ER21-203-002.

Applicants: Baltimore Gas and Electric Company, PJM Interconnection, L.L.C.

Description: Compliance filing: Baltimore Gas and Electric Company submits tariff filing per 35: BGE Supplemental Compliance Filing in ER21-203 to be effective N/A.

Filed Date: 2/17/23.

Accession Number: 20230217-5020.

Comment Date: 5 p.m. ET 3/10/23.

Docket Numbers: ER21-204-002.

Applicants: Commonwealth Edison Company, PJM Interconnection, L.L.C.

Description: Compliance filing: Commonwealth Edison Company submits tariff filing per 35: ComEd Supplemental Compliance Filing in ER21-204 to be effective N/A.

Filed Date: 2/17/23.

Accession Number: 20230217-5021.

Comment Date: 5 p.m. ET 3/10/23.

Docket Numbers: ER21-205-002.

Applicants: Delmarva Power & Light Company, PJM Interconnection, L.L.C.

Description: Compliance filing: Delmarva Power & Light Company submits tariff filing per 35: Delmarva Power & Light Supplemental Compliance Filing in ER21-205 to be effective N/A.

Filed Date: 2/17/23.

Accession Number: 20230217-5063.

Comment Date: 5 p.m. ET 3/10/23.

Docket Numbers: ER21-206-002.

Applicants: Potomac Electric Power Company, PJM Interconnection, L.L.C.

Description: Compliance filing: Potomac Electric Power Company submits tariff filing per 35: PEPCO Supplemental Compliance Filing in ER21-206 to be effective N/A.

Filed Date: 2/17/23.

Accession Number: 20230217-5065.

Comment Date: 5 p.m. ET 3/10/23.

Docket Numbers: ER21-209-002.

Applicants: PECO Energy Company, PJM Interconnection, L.L.C.

Description: Compliance filing: PECO Energy Company submits tariff filing per 35: PECO Supplemental Compliance Filing in ER21-209 to be effective N/A.

Filed Date: 2/17/23.

Accession Number: 20230217-5068.

Comment Date: 5 p.m. ET 3/10/23.

Docket Numbers: ER23-155-001.

Applicants: Southwest Power Pool, Inc.

Description: Tariff Amendment: 4028 Pixley Solar Energy & ITCGP FSA-Deficiency Response to be effective 12/20/2022.

Filed Date: 2/17/23.

Accession Number: 20230217-5099.

Comment Date: 5 p.m. ET 3/10/23.

Docket Numbers: ER23-342-001.

Applicants: Southwest Power Pool, Inc.

Description: Tariff Amendment: 4029SO Panhandle Solar & SPS FSA-Deficiency Response to be effective 4/19/2023.

Filed Date: 2/17/23.

Accession Number: 20230217-5104.

Comment Date: 5 p.m. ET 3/10/23.

Docket Numbers: ER23-673-001.

Applicants: BHE Glacier Wind 1, LLC.

Description: Tariff Amendment: Amendment to MBR Tariff Revisions to be effective 11/9/2022.

Filed Date: 2/17/23.

Accession Number: 20230217-5055.

Comment Date: 5 p.m. ET 3/10/23.

Docket Numbers: ER23-674-001.

Applicants: BHE Wind Watch, LLC.

Description: Tariff Amendment: Amendment to MBR Tariff Revisions to be effective 11/9/2022.

Filed Date: 2/17/23.

Accession Number: 20230217-5062.

Comment Date: 5 p.m. ET 2/27/23.

Docket Numbers: ER23-675-001.

Applicants: BHE Rim Rock Wind, LLC.

Description: Tariff Amendment: Amendment to MBR Tariff Revisions to be effective 11/9/2022.

Filed Date: 2/17/23.

Accession Number: 20230217-5061.

Comment Date: 5 p.m. ET 3/10/23.

Docket Numbers: ER23-676-001.

Applicants: BHE Power Watch, LLC.

Description: Tariff Amendment: Amendment to MBR Tariff Revisions to be effective 11/9/2022.

Filed Date: 2/17/23.

Accession Number: 20230217-5060.

Comment Date: 5 p.m. ET 3/10/23.

Docket Numbers: ER23-677-001.

Applicants: BHE Glacier Wind 2, LLC.

Description: Tariff Amendment: Amendment to MBR Tariff Revisions to be effective 11/9/2022.

Filed Date: 2/17/23.

Accession Number: 20230217-5059.

Comment Date: 5 p.m. ET 3/10/23.

Docket Numbers: ER23-791-000; ER23-792-000.

Applicants: Consolidated Edison Solutions, Inc., Consolidated Edison Energy, Inc.

Description: Supplement to January 9, 2023 Consolidated Edison Energy, Inc., et al.

Filed Date: 2/10/23.

Accession Number: 20230210-5236.

Comment Date: 5 p.m. ET 2/21/23.

Docket Numbers: ER23-1131-000.

Applicants: PJM Interconnection, L.L.C.

Description: § 205(d) Rate Filing: Original ISA SA No. 6785 and Cancellation of IISA SA No. 6184; Queue No. AE2-148 to be effective 1/18/2023.

Filed Date: 2/17/23.

Accession Number: 20230217-5013.

Comment Date: 5 p.m. ET 3/10/23.

Docket Numbers: ER23-1132-000.

Applicants: Pacific Gas and Electric Company.

Description: Notice of Termination of Service Agreement No. 34 of Pacific Gas and Electric Company.

Filed Date: 2/16/23.

Accession Number: 20230216-5239.

Comment Date: 5 p.m. ET 3/9/23.

Docket Numbers: ER23-1133-000.

Applicants: Midcontinent Independent System Operator, Inc., Ameren Illinois Company.

Description: § 205(d) Rate Filing: Midcontinent Independent System Operator, Inc. submits tariff filing per 35.13(a)(2)(iii: 2023-02-17_SA 3028 Ameren IL-Prairie Power-EIEC Project#38 Papineau to be effective 4/19/2023.

Filed Date: 2/17/23.

Accession Number: 20230217-5031.

Comment Date: 5 p.m. ET 3/10/23.

Docket Numbers: ER23-1134-000.

Applicants: Southern California Edison Company.

Description: § 205(d) Rate Filing: 1st Amend GIA & DSA, Goleta ES, WDT1454-1454EXP + Terminate e-Tariff record to be effective 4/19/2023.

Filed Date: 2/17/23.

Accession Number: 20230217-5072.

Comment Date: 5 p.m. ET 3/10/23.

Docket Numbers: ER23-1135-000.

Applicants: PacifiCorp.

Description: § 205(d) Rate Filing: Lehi—Interconnection Agrmt for POD's Rev 1 to be effective 4/19/2023.

Filed Date: 2/17/23.

Accession Number: 20230217-5073.

Comment Date: 5 p.m. ET 3/10/23.

Docket Numbers: ER23-1136-000.

Applicants: Alabama Power Company, Georgia Power Company, Mississippi Power Company.

Description: § 205(d) Rate Filing: Alabama Power Company submits tariff filing per 35.13(a)(2)(iii: Shy Place Solar Park (Solar & Battery) LGIA Filing to be effective 2/3/2023.

Filed Date: 2/17/23.

Accession Number: 20230217-5077.

Comment Date: 5 p.m. ET 3/10/23.

Docket Numbers: ER23-1137-000.

Applicants: Public Service Company of Colorado.

Description: § 205(d) Rate Filing: PacifiCorp Exchange Agreement—NOC [Refile] to be effective 10/31/2022.

Filed Date: 2/17/23.

Accession Number: 20230217-5107.

Comment Date: 5 p.m. ET 3/10/23.

Docket Numbers: ER23-1138-000.

Applicants: PJM Interconnection, L.L.C.

Description: § 205(d) Rate Filing: Revisions to the Review of Maintenance Adders and Operating Costs to be effective 4/19/2023.

Filed Date: 2/17/23.

Accession Number: 20230217-5108.

Comment Date: 5 p.m. ET 3/10/23.

Docket Numbers: ER23-1139-000.

Applicants: Macquarie Energy LLC.

Description: Compliance filing: refund report Feb 2023 to be effective N/A.

Filed Date: 2/17/23.

Accession Number: 20230217-5154.

Comment Date: 5 p.m. ET 3/10/23.

Docket Numbers: ER23-1140-000.

Applicants: Entergy Services, LLC, Entergy Arkansas, LLC, Entergy Mississippi, LLC.

Description: Request for Limited Waiver, et al. of Entergy Services, LLC.

Filed Date: 2/17/23.

Accession Number: 20230217-5174.

Comment Date: 5 p.m. ET 3/10/23.

Take notice that the Commission received the following PURPA 210(m)(3) filings:

Docket Numbers: QM23-3-000.

Applicants: Great River Energy.

Description: Application of Great River Energy to Terminate its Mandatory Purchase Obligation under the Public Utility Regulatory Policies Act of 1978.

Filed Date: 2/16/23.

Accession Number: 20230216-5206.

Comment Date: 5 p.m. ET 3/16/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2023.
Debbie-Anne A. Reese,
Deputy Secretary.

[FR Doc. 2023-03872 Filed 2-23-23; 8:45 am]

BILLING CODE 6717-01-P